DEPARTMENT OF HEALTH AND HUMAN SERVICES

National Institutes of Health

Center for Scientific Review; Amended Notice of Meeting

Notice is hereby given of a change in the meeting of the Urologic and Kidney Development and Genitourinary Diseases Study Section, June 26, 2006, 8 a.m. to June 27, 2006, 11 a.m., Double Tree Rockville, 1750 Rockville Pike, Rockville, MD 20852, which was published in the Federal Register on May 16, 2006, 71 FR 28365-28367.

The meeting will be held at the Crowne Plaza Hotel, 8777 Georgia Avenue, Silver Spring, MD 20910. The meeting dates and time remain the same. The meeting is closed to the public.

Dated: May 25, 2006.
Anna Snouffer,
Acting Director, Office of Federal Advisory Committee Policy.

[FR Doc. 06-5065 Filed 6-1-06; 8:45 am]

BILLING CODE 4140-01-M